DEPARTMENT OF AGRICULTURE

Forest Service

DEPARTMENT OF THE INTERIOR

Bureau of Land Management

RIN 0596-AC03

Stewardship End Result Contracting

AGENCY: Forest Service, USDA, and Bureau of Land Management, DOI

ACTION: Notice of interim guidelines; opportunity for public input.

SUMMARY: The Department of Agriculture, Forest Service (FS), and the Department of the Interior, Bureau of Land Management (BLM) would like to receive public input on the interim guidelines jointly developed to implement the stewardship end result contracting provisions as authorized by section 323 of P.L. 108-7, the Consolidated Appropriations Resolution, 2003 (16 U.S.C. 2104 note). The agencies are publishing these guidelines in the Federal Register in order to insure that the public has the opportunity to comment on implementation guidelines for this new authority granted by Congress. The public's input will be considered prior to development of final agency policy.

DATES: Public input must be received in writing by July 28, 2003.

ADDRESSES: Written comments concerning this notice should be addressed to: USDA Forest Service, Forests and Rangelands Staff, Mail Stop 1105, 1400 Independence Avenue, SW., Washington, DC 20024-1105.

Public input on these interim guidelines may also be submitted via facsimile to (202) 205-1045 or by e-mail to stewardship@fs.fed.us. If comments are sent via facsimile or e-mail, the public is requested not to send duplicate written comments via regular mail.

All comments, including names and addresses when provided, will be available for public inspection and copying. The public may inspect comments received at the office of the Director of Forests and Rangelands, 201 14th Street, SW., Washington, DC. Visitors are urged to call ahead to facilitate entry into the building at (202) 205-0893.

FOR FURTHER INFORMATION CONTACT: Darci Birmingham, Forests and Rangelands Staff, Forest Service at (202) 205-1759, or Mike Haske, Renewable Resources and Planning, Bureau of Land Management at (202) 452-0312. Individuals who use telecommunication devices for the deaf (TDD) may call the Federal Information Relay Service (FIRS) at 1-800-877-8339 between 8 a.m. and 4 p.m., eastern standard time, Monday through Friday.

SUPPLEMENTARY INFORMATION:

Background

Section 323 of P.L. 108-7, the Consolidated Appropriations Resolution, 2003, grants the Bureau of Land Management (BLM) and the Forest Service (FS) authority until September 30, 2013, to enter into stewardship contracting projects (stewardship projects) with private persons or public or private entities, by contract or by agreement, to perform services to achieve land management goals for the national forests or public lands that meet local and rural community needs. In this law, Congress expanded the existing FS authority for stewardship projects to include BLM. FS pilot program authority was previously granted until September 30, 2004, by section 332 of P.L. 107-63, Department of the Interior and Related Agencies Appropriations Act, 2002. FS pilot program authority was granted until September 30, 2002, by section 347 of P.L. 105-277, Department of the Interior and Related Agencies Appropriations Act, 1999. Pursuant to P.L. 108-7, both Federal agencies are authorized to enter into stewardship projects to achieve agency land management objectives that meet local rural community needs. Until final long-term policy is announced, the BLM will implement the FY 2003 program in accordance with Instruction Memorandum 2003-107. The Forest Service is relying on this notice as the interim final policy for stewardship projects, which becomes effective on the date of publication.

The land management goals for stewardship projects may include treatments to improve, maintain, or restore forest or rangeland health; restore or maintain water quality; improve fish and wildlife habitat; and reduce hazardous fuels that pose risks to communities and ecosystem values, reestablish native plant species, or other land management objectives. Stewardship projects are not a replacement for agencies' existing timber sale programs. Stewardship contracting may differ from other contracting authorities in the following manner:

—Contracts will be selected on a best value basis;

—Contract length may exceed 5 years but will not exceed 10 years;

—The agencies may apply the value of timber or other forest products removed as an offset against any services received;

—Monies received from the sale of forest products or vegetation removed from a stewardship project site may be retained by the agencies and applied at the project site or at another stewardship project site without further appropriation;

—A multiparty monitoring and evaluation process is required.

The BLM is implementing stewardship projects on a limited basis in FY 2003 while guidance for long-term implementation is being developed. Therefore, BLM has issued an Instruction Memorandum 2003-107 requesting a list of proposed stewardship projects for consideration. The State Director will select these projects, with review by the Headquarters Office of both the BLM and the Department of the Interior.

The FS plans to implement the stewardship contracting authority much as it did the Stewardship Pilot Program authorized by P.L. 107-63. The FS will issue an interim directive in Forest Service Handbook 2409.19. Stewardship projects are authorized on all FS units. The FS will apply lessons learned from the Stewardship Pilot Program when developing and implementing stewardship projects under the expanded authority. Forest Supervisors will select the projects for their respective units. Regional Foresters will provide oversight of the program.

Description of Interim Guidelines

The following are interim guidelines for all stewardship projects implemented under section 323 of P.L. 108-7. In developing these interim guidelines, the agencies considered comments received by the Pinchot Institute for Conservation from participants at a National Outreach Forum the Institute held in Washington, DC on April 15, 2003. USDA and DOI contracted with the Pinchot Institute for Conservation to conduct this forum. The Pinchot Institute for Conservation is also under contract with the FS to monitor implementation of the 84 FS stewardship pilot projects.

1. Stewardship projects authorized by Public Law 108-7 will be designed to achieve land management goals by modifying vegetation to make forests and rangelands more resilient to natural disturbance mechanisms such as wind, flood, fire, insects, and disease. The objectives of these projects may include improving forest and rangeland health, restoring or maintaining water quality, improving fish and wildlife habitat, reestablishing native plant species, and/or reducing hazardous fuels that pose risks to communities and ecosystem values.

2. Deriving revenue from the sale of any by-products or other materials designated for removal from these stewardship projects will be a secondary objective to the restoration goals. Forest products will be appraised at fair market value. Contracts of a duration longer than 3 years will allow for price adjustment for the value of these materials to protect the public interest as new markets develop.

3. The agencies will use an open, collaborative process and, as appropriate, will seek early involvement of local government agencies, including tribal governments, and any interested groups or individuals in various phrases of project development and implementation.

4. The agencies will seek to use the stewardship authority in conjunction with other land management authorities to develop and implement stewardship projects across agency administrative boundaries. The agencies will seek to achieve land management goals on a watershed, or larger scale.

5. The Forest Service may collect residual receipts pursuant to the Knutson-Vandenberg Act of June 9, 1930, and the National Forest Management Act of 1976, from excess offset value.

6. All stewardship projects will comply with applicable environmental laws and regulations, including an appropriate level of environmental review under the National Environmental Policy Act, and will be consistent with applicable agency land and resource management plans. Projects will be subject to applicable agencies' appeals and dispute resolution processes.

7. The agencies may use existing contract or assistance instruments, as appropriate, to implement stewardship projects. In addition, the agencies may develop new contracting mechanisms as needed to implement stewardship projects consistent with relevant laws, regulations, and guidelines.

8. In awarding a stewardship contract on a best value basis, the agencies may, in addition to cost or price, consider such criteria as the contractor's past performance, work quality, existing public or private agreements or contracts, on-time delivery, and experience. The agencies may consider the benefits to local and rural community needs when considering award of a stewardship contract on a best value basis. The agencies' may use non-traditional contractors or recipients, such as counties or not-for-profit or non-governmental organizations, if consistent with relevant authorities.

9. The agencies may use all available authorities to involve a wide range of contractors or recipients, allow for offsets to be utilized for other restoration treatments. The agencies will maintain Federal agency control and oversight of operations to assure the protection of public assets and compliance with environmental requirements.

10. Contractors who are awarded stewardship contracts will provide such bonds as may be required under law or regulation. The agencies may require performance and payment bonds in order to protect the government's investment in receipts from forest products to be removed under a contract or agreement under Pub. L. 108-7.

11. The agencies will develop a two-phased training approach to implement this authority. Internal agency training will focus on allowing for contracting authority to occur as close to the field as practicable and will cover topics such as project management, performance based end-result contracting and trading goods for services. Agencies also will provide external training subject to available funding to assist contractors in developing skills to do the work required by the contract, and knowledge in competing for and performing on stewardship contracts.

12. The agencies will utilize multiparty monitoring, open to interested groups or individuals, to monitor and evaluate an appropriate sampling of the projects or programs at the appropriate levels. If supported by the local collaborative process, monitoring will be conducted at the project level, subject to available funding, and will be well coordinated among administrative units to ensure that the sampling of projects monitored is geographically diverse and represents the range of projects undertaken. Multi-party monitoring will focus on:

a. The status of development, execution, and administration of agreements or contracts,

b. The specific accomplishments that have resulted,

c. The role of local communities in development of agreement or contract plans.

13. When reporting to Congress, the agencies will utilize performance and workload measures consistent with the Government Performance and Results Act. To the extent practicable, these measures will be consistent across the Department of the Interior and the Department of Agriculture.

14. Stewardship contracting provides for multiple year contracts up to 10 years duration. The agencies are encouraged to use multiple-year funding to provide incentives to potential sources to make investments in long-term landscape improvement projects.

15. In accordance with law, the agencies will maintain authority over all phases of development and implementation of contracts and agreements under this authority and will administer them in a manner consistent with their intended goals.

16. Project managers will separately track the values of the goods being sold and the services being received for each project.

17. Use of receipts is limited to direct on-the-ground project implementation. Receipts will not be used for overhead, administrative, or indirect costs or the completion of environmental studies or other planning and analysis.

18. The use of full and open competition will remain standard operating practice and anything less than full and open competition will need to be documented and approved by the appropriate Regional Forester for the FS and the appropriate State Director for BLM.

Conclusion

The FS and BLM are seeking public comment on interim agency guidelines to implement stewardship projects, as authorized by section 323 of Pub. L. 108-7, to achieve agency land management objectives and meet community needs for improving, maintaining, and restoring forest or rangeland health; restoring and maintaining water quality, improving fish and wildlife habitat; and reducing hazardous fuels that pose risks to communities and ecosystem values. The agencies will continue to examine this interim policy for additional changes that may need to be made to their respective directive systems or agency regulations. Public input received will be considered in the development of final policy for each agency.

Regulatory Certification

Environmental Impact

These interim guidelines would provide guidance to BLM and FS employees for implementing stewardship contracting authority. Section 31.1b of Forest Service Handbook 1909.15 (57 FR 43180; September 18, 1992) excludes from documentation in an environmental assessment statement “rules, regulations, or policies to establish Service-wide administrative procedures, program processes, or instructions.” The agency's preliminary assessment is that these guidelines fall within this category of actions and that no extraordinary circumstances exist which would require preparation of an environmental assessment or environmental impact statement. A final determination will be made upon adoption of the final agency policy.

In addition, the Department of the Interior Manual 516 DM, chapter 2, Appendix 1 categorically excludes from documentation in an environmental assessment or environmental impact statement “policies, directives, regulations, and guidelines of an administrative, financial, technical, or procedural nature.” The agencies' preliminary assessment is that these guidelines fall within these categories of actions and that no extraordinary circumstances exist that would require preparation of an environmental assessment or environmental impact statement. A final determination will be made upon adoption of the final agency policy.

Regulatory Impact

These interim guidelines have been reviewed under USDA and DOI procedures and Executive Order 12866 on Regulatory Planning and Review. The Office of Management and Budget has determined that these interim guidelines are not significant. Moreover, these guidelines have been considered in light of Executive Order 13272 regarding proper consideration of small entities, and the Small Business Regulatory Enforcement Fairness Act (SBREFA), which amended the Regulatory Flexibility Act (5 U.S.C. 601 et seq.), and it has been determined that these guidelines would not have a significant economic impact on a substantial number of small entities as defined by SBREFA because they would not impose record keeping requirements on them; they would not affect their competitive position in relation to large entities; and they would not affect their cash flow, liquidity, or ability to remain in the market.

Federalism

The agencies have considered these interim guidelines under the requirements of Executive Order 13132 on Federalism and have made an assessment that the guidelines conform with the federalism principles set out in this Executive order; would not impose any compliance costs on the States; and would not have substantial direct effects on the States or the relationship between the national government and the States, or on the distribution of power and responsibilities among the various levels of government. Therefore, the agencies have determined that no further assessment of federalism implications is necessary at this time.

Consultation and Coordination With Indian Tribal Governments

These interim guidelines do not have tribal implications as defined by Executive Order 13175 on Consultation and Coordination with Indian Tribal Governments, and therefore, advance consultation with tribes is not required. However, the projects resulting from these guidelines that do have tribal implications as defined by Executive Order 13175 will result in consultation and coordination with the appropriate tribal government.

No Takings Implications

These interim guidelines have been analyzed in accordance with the principles and criteria contained in Executive Order 12630 on Governmental Actions and Interference with Constitutionally Protected Property Rights, and it has been determined that the guidelines do not pose the risk of a taking of Constitutionally protected private property.

Energy Effects

These interim guidelines have been reviewed under Executive Order 13211 on Actions Concerning Regulations that Significantly Affect Energy Supply, Distribution, or Use. It has been determined that these guidelines do not constitute a significant energy action as defined in the Executive order.

Controlling Paperwork Burdens on the Public

These guidelines do not contain any additional record keeping or reporting requirements not already required by law or not already approved for use, and therefore, impose no additional paperwork burden on the public associated with the timber harvest program or other information collection requirements as defined in 5 CFR part 1320. Accordingly, the review provisions of the Paperwork Reduction Act of 1995 (44 U.S.C. 3501 et seq.) and it's implementing regulations at 5 CFR part 1320 do not apply.

For the Forest Service, Department of Agriculture:
Dated: June 23, 2003.
Dale N. Bosworth,
Chief.
For the Bureau of Land Management, Department of the Interior:
Dated: June 19, 2003.
Jim Hughes,
Deputy Director.

[FR Doc. 03-16348 Filed 6-26-03; 8:45 am]

BILLING CODE 3410-11-P